DEPARTMENT OF HEALTH AND HUMAN SERVICES

Announcement of Requirements and Registration for “Crowds Care for Cancer: Supporting Survivors Challenge”

AGENCY: Office of the National Coordinator for Health Information Technology, HHS.

Award Approving Official: Farzad Mostashari, National Coordinator for Health Information Technology.

ACTION: Notice.

SUMMARY: The number of cancer survivors in the United States is currently estimated at 14 million and is expected to increase significantly with the aging of the United States population. Cancer survivors may experience a host of long-term and late effects that require coordinated follow-up care after completion of primary treatment for cancer. Despite significant progress in cancer treatment, the complex, often fragmented state of end-of-treatment care may lead to harmful breakdowns in patient-provider communication and follow-up care for cancer survivors. Enabling better communication, exchange of data, and care coordination can help improve end-of-treatment consultations and care planning for cancer survivors. Innovative new approaches are needed to assist patients and their support networks use information from their providers and care plans to facilitate cancer follow-up care that is comprehensive, coordinated, and of high-quality.

To address the needs of cancer survivors, the Office of the National Coordinator for Health Information Technology (ONC) is launching the Crowds Care for Cancer: Supporting Survivors Challenge in conjunction with the National Cancer Institute (NCI) as part of the Investing in Innovation (i2) program. This challenge aims to incentivize the development of innovative information management tools and applications that help survivors manage their transition from specialty to primary care; for example, by facilitating activities such as coordinating recommendations, appointments, and resources from patient support networks and healthcare providers involved in their care. Submissions should help survivors use information from their providers and survivorship care plans to improve communication and coordination within their care networks that can help facilitate the planning and delivery of coordinated, high-quality, and patient-centered follow-up care. These networks often include families, friends, and members of their primary and specialty care teams. The ultimate goal of this challenge is to develop applications that will better meet the needs of cancer survivors. Finalists from Phase I will garner seed funding and publicity from ONC and NCI to assist qualified entrants in developing applications ready for solicitation of additional development resources.

DATES:

Phase I:

April 29, 2013: Crowds Care for Cancer: Supporting Survivors Challenge launch.

May 28, 2013, 11:59 p.m. PDT: Deadline for Phase I Submissions.

June 3, 2013: Up to three finalists announced, and launch of Phase II.

Phase II:

June 10, 2013: Crowdfunding portal opens platform for finalists to receive feedback and support/backing.

July 5, 2013: End of Crowdfunding phase.

July 12, 2013 11:59 p.m. PDT: Deadline for final development and submission of application.

July-August, 2013: Announce grand prize winner.

FOR FURTHER INFORMATION CONTACT: Abdul Shaikh, Ph.D., MHSc, Program Director, National Cancer Institute, National Institutes of Health (email: shaikhab@mail.nih.gov; 301-594-6690); Adam Wong, Office of the National Coordinator for Health Information Technology (adam.wong@hhs.gov, 202-720-2866).

SUPPLEMENTARY INFORMATION:

Subject of Challenge Competition

To address the needs of cancer survivors, the Office of the National Coordinator for Health Information Technology (ONC) is launching the Crowds Care for Cancer: Supporting Survivors Challenge in conjunction with the National Cancer Institute (NCI) as part of the Investing in Innovation (i2) program. This challenge aims to incentivize the development of innovative information management tools and applications that help survivors manage their transition from specialty to primary care, for example, by facilitating activities such as coordinating recommendations, appointments, and resources from patient support networks and healthcare providers involved in their care. Submissions should help survivors use information from their providers and survivorship care plans to improve communication and coordination within their care networks that can help facilitate the planning and delivery of coordinated, high-quality, and patient-centered follow-up care. These networks often include families, friends, and members of their primary and specialty care teams. The ultimate goal of this challenge is to develop applications that will better meet the needs of cancer survivors. Finalists from Phase I will garner seed funding and publicity from ONC and NCI to assist qualified entrants in developing applications ready for solicitation of additional development resources.

As part of this goal, submissions could improve transitional and follow-up care after cancer treatment by optimizing patient-provider communication and customizing management of survivor care. Innovations could also address follow-up care needs such as medication tracking and adherence, health promotion, appointment and symptom tracking. Communication across survivor care networks will also be improved by utilizing key sources of health data and interoperability standards such as Blue Button+ (bluebuttonplus.org). Entries will also be assessed on their ability to adapt to the evolving care needs of survivors, including the potential for integration with electronic care platforms and between members of their care networks (e.g., family, friends, and healthcare providers).

The challenge will consist of two phases. In the first phase, entrants will submit wireframes and supporting documentation detailing the proposed functionality of their tool or application addressing the goals of the challenge. At the end of Phase I eligible entries will be judged according to the challenge criteria, with up to three entrants being awarded $5,000 each and receiving additional support to optimize their application proposal for promotion on a crowdfunding portal as they transition to Phase II. The second phase requires the Phase I finalists to post relevant details of their tool or application on a crowdfunding portal for public feedback and support in developing the application. At the end of Phase II the finalists will submit a functioning application to be judged for the $25,000 grand prize.

Eligibility Rules for Participating in the Competition

To be eligible to win a prize under this challenge, an individual or entity—

(1) Shall have registered to participate in the competition under the rules promulgated by the Department of Health and Human Services (HHS), Office of the National Coordinator for Health Information Technology (ONC), and National Cancer Institute (NCI), and Health 2.0;

(2) Shall have complied with all the requirements under this section;

(3) In the case of a private entity, shall be incorporated in and maintain a primary place of business in the United States, and in the case of an individual, whether participating singly or in a group, shall be a citizen or permanent resident of the United States and be 18 years of age or older;

(4) May not be a federal entity or federal employee acting within the scope of their employment;

(5) Shall not be a HHS employee working on their applications or submissions during assigned duty hours;

(6) Shall not be an employee of ONC or the National Institutes of Health (NIH); The immediate family members (spouse, parents and step-parents, siblings and step-siblings, and children and step-children) and household members (people who share the same residence at least three (3) months out of the year) of employees of ONC, NIH, the judges, or any other company or individual involved with the design, production, execution, or distribution of the challenge are not eligible to participate.

(7) Federal grantees may not use federal funds to develop COMPETES Act challenge applications unless consistent with the purpose of their grant award;

(8) Federal contractors may not use federal funds from a contract to develop COMPETES Act challenge applications or to fund efforts in support of a COMPETES Act challenge submission;

(9) Each applicant retains title and full ownership in and to their submission. Applicant expressly reserves all intellectual property rights not expressly granted under this agreement. Applicants must agree to irrevocably grant to federal government a non-exclusive, royalty free, perpetual, irrevocable, worldwide license and right, with the right to sublicense, under entrant's intellectual property rights, in the event that an entrant wins, to use, reproduce, publicly perform, publicly display, and freely distribute the submission provided by such entrant (with or without any modifications or derivative works thereto), or any portion or feature thereof, for a period of one (1) year following the date that the challenge winner is selected.

An individual or entity shall not be deemed ineligible because the individual or entity used federal facilities or consulted with federal employees during a competition if the facilities and employees are made available to all individuals and entities participating in the competition on an equitable basis.

Challenge entrants will be expected to sign a liability release as part of the contest registration process and agree to indemnify the Federal Government against third party claims. The liability release and indemnification agreement will use the following language:

By participating in this competition, I agree to assume any and all risks and waive claims against the federal government and its related entities, except in the case of willing misconduct, for any injury, death, damage, or loss of property, revenue, or profits, whether direct, indirect, or consequential, arising from my participation in this prize contest, whether the injury, death, damage, or loss arises through negligence or otherwise. By participating in this competition, Entrants agree to indemnify the Federal Government against third party claims for damages arising from or related to competition activities.

Based on the subject matter of the competition, the type of work that it will possibly require, as well as an analysis of the likelihood of any claims for death, bodily injury, or property damage, or loss potentially resulting from competition participation, Entrants are not required to obtain liability insurance or demonstrate financial responsibility in order to participate in this competition.

Registration Process for Participants

To register for this challenge entrants should either:

• Access the www.challenge.gov Web site and search for the Crowds Care for Cancer: Supporting Survivors Challenge; or

• Access the ONC Investing in Innovation (i2) Challenge Web site at http://www.health2con.com/devchallenge/challenges/onc-i2-challenges/

Amount of the Prize

Up to three Phase I finalists will be awarded a monetary cash prize totaling $5,000 each, and receive additional support to optimize their application proposal for promotion on a crowdfunding portal for Phase II. The single grand prize winner will be awarded a monetary cash prize totaling $25,000. The applications developed by the finalists and grand prize winner will be promoted by NCI and ONC.

Awards may be subject to Federal income taxes and HHS will comply with IRS withholding and reporting requirements, where applicable.

Payment of the Prize

Prize will be paid by contractor.

Basis upon which Phase I finalists and Phase II grand prize winner will be selected:

Challenge submissions will be judged by a panel selected by ONC and NCI with relevant expertise based on the following criteria:

1. The submission is an innovative information management tool or application deployable on any personal computing platform widely available to consumers;

2. The tool or application addresses the needs of cancer survivors managing their transition from specialty to primary care;

3. Usability and design;

4. Evidence of co-design with, and support from users of proposed tool or application (e.g., patients, families, primary/specialty caregivers, insurers, and/or hospital systems);

5. Innovation and differentiation from existing technologies and products;

6. Functionality, accuracy, integration with electronic care platforms, and use of Blue Button+ standards (bluebuttonplus.org) and other sources of health-related information; and,

7. Customizability and ability to adapt to evolving survivorship care needs including primary/specialist care interactions.

In order for an entry to be eligible to win this Challenge, it must meet the following requirements:

1. General—Entrants must provide continuous access to the application to judges during the evaluation period, a detailed description of the application, instructions on how to install and operate the application, and system requirements required to run the application (collectively, “Submission”).

2. Acceptable platforms—The tool must be designed for use with any personal computing platform widely available to the average consumer.

3. No HHS, ONC, NIH, or NCI logos—The application must not use HHS', ONC's, or NCI's logos or official seals in the Submission, and must not claim endorsement.

4. Section 508 Compliance—Entrants must acknowledge that they understand that, as a pre-requisite to any subsequent acquisition by FAR contract or other method, they may be required to make their proposed solution compliant with Section 508 accessibility and usability requirements at their own expense. Any electronic information technology that is ultimately obtained by HHS for its use, development, or maintenance must meet Section 508 accessibility and usability standards. Past experience has demonstrated that it can be costly for solution-providers to “retrofit” solutions if remediation is later needed. The HHS Section 508 Evaluation Product Assessment Template, available at http://www.hhs.gov/web/508/contracting/technology/vendors.html, provides a useful roadmap for developers to review. It is a simple, web-based checklist utilized by HHS officials to allow vendors to document how their products do or do not meet the various Section 508 requirements.

5. Functionality/Accuracy—A Submission may be disqualified if the application fails to function as expressed in the description provided by the user, or if the application provides inaccurate or incomplete information.

6. Security—Submissions must be free of malware. Entrant agrees that the ONC may conduct testing on the application to determine whether malware or other security threats may be present. ONC may disqualify the application if, in ONC's judgment, the application may damage government or others' equipment or operating environment.

Additional Information

Online Resources

Blue Button: http://www.healthit.gov/bluebutton

Blue Button+ Implementation Guide: http://bluebuttonplus.org/

Follow-up Care After Cancer Treatment: http://www.cancer.gov/cancertopics/factsheet/Therapy/followup

Transitional Care Planning: http://www.cancer.gov/cancertopics/pdq/supportivecare/transitionalcare/Patient/page2

A Tough Transition: Survivorship Care Plans Slow to Take Hold: http://www.cancer.gov/ncicancerbulletin/062612/page5

NCI funding announcement on “Examination of Survivorship Care Planning Efficacy and Impact”

PA-12-274: http://grants.nih.gov/grants/guide/pa-files/PA-12-274.html

PA-12-275: http://grants.nih.gov/grants/guide/pa-files/PA-12-275.html

Intellectual Property

Ownership of intellectual property is determined by the following:

• Each entrant retains title and full ownership in and to their submission. Entrants expressly reserve all intellectual property rights not expressly granted under the Challenge agreement.

• By participating in the Challenge, each entrant hereby irrevocably grants to ONC and NCI (Sponsors) and Health 2.0 (Administrator) a limited, non-exclusive, royalty-free, worldwide license and right to reproduce, publically perform, publically display, and use the Submission to the extent necessary to administer the Challenge, and to publically perform and publically display the Submission, including, without limitation, for advertising and promotional purposes relating to the Challenge.

General Conditions: ONC and NCI reserve the right to cancel, suspend, and/or modify non-prize elements of the Contest, or any part of it, for any reason, at ONC and NCI's discretion. Participation in this Contest constitutes an entrant's full and unconditional agreement to abide by the Contest's Official Rules found at www.challenge.gov.

Privacy Policy: ChallengePost collects personal information from you when you register on Challenge.gov. The information collected is subject to the ChallengePost privacy policy located at www.challengepost.com/privacy

Authority: 15 U.S.C. 3719.

Dated: April 24, 2013.
Farzad Mostashari,
National Coordinator for Health Information Technology.

[FR Doc. 2013-10192 Filed 4-30-13; 8:45 am]

BILLING CODE 4150-45-P